ENVIRONMENTAL PROTECTION AGENCY

[ER-FRL-8588-9]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7146.

An explanation of the ratings assigned to draft environmental impact statements (EISs) was published in FR dated April 6, 2008 (73 FR 19833).

Draft EISs

EIS No. 20080297, ERP No. D-IBR-K65345-CA, Lake Casitas Resource Management Plan (RMP), Implementation, Cities of Los Angeles and Ventura, Western Ventura County, CA.

Summary: EPA expressed environmental concerns about impacts to environmental resources and impacts from noise. Rating EC2.

EIS No. 20080357, ERP No. D-FRC-K05066-CA, Big Creek Hydro Project (FERC Nos. 67, 120, 2085, and 2175) Proposes to Relicenses, Big Creek Nos. 2A, 8 and Eastwood—FERC No. 67; Big Creek Nos. 1 and 2—FERC No. 2175; Mammoth Pool—FERC No. 2085 and Big Creek No. 3 FERC No. 120, Fresno and Madera Counties, CA.

Summary: EPA expressed environmental concerns about impacts related to construction activities. EPA requested additional information on the impacts of climate change on the project and the analysis of cumulative impacts. Rating EC2.

EIS No. 20080398, ERP No. D-NIH-J81013-MT, Rocky Mountain Laboratories (RML) Master Plan, Implementation, Hamilton, Ravalli County, MT.

Summary: EPA expressed environmental concerns about air quality, environmental justice and safety/security impacts. Rating EC2.

EIS No. 20080409, ERP No. D-COE-J11025-CO, Fort Carson Grow the Army Stationing Decision, Constructing New Facilities to Support Additional Soldiers and their Families, Portions of El Paso, Pueblo and Fremont Counties, CO.

Summary: EPA does not object to the proposed action. Rating LO.

EIS No. 20080432, ERP No. D-COE-G39051-LA, Mississippi River-Gulf Outlet (MRGO), Louisiana, and Lake Borgne Wetland Creation and Shoreline Protection Project, Proposes to Construct Shoreline Protection Features Along the Lake Borgne Shoreline to Restore and Nourish Wetlands, Lake Borgne, LA.

Summary: EPA expressed environmental concerns about water quality and sediment budget impacts. Rating EC2.

EIS No. 20080464, ERP No. DS-AFS-F65062-MN, Echo Trail Area Forest Management Project, Updated Information to Amend to Further Address Water Quality and Watershed Health, Superior National Forest, Lacroix Ranger District and Kawishiwi Ranger District, St. Louis and Lake Counties, MN.

Summary: EPA does not object to the proposed action. Rating LO.

Final EISs

EIS No. 20080351, ERP No. F-SFW-K99039-NV, Coyote Spring Investment Multispecies Conservation Plan, Issuing a 40-year Incidental Take Permit for Five Species, Clark and Lincoln Counties, NV.

Summary: EPA expressed environmental concerns about groundwater planning and impacts to biological resources.

EIS No. 20080373, ERP No. F-FHW-E40339-NC, NC 12 Replacement of Herbert C. Bonner Bridge (Bridge No. 11) Revisions and Additions, over Oregon Inlet Construction, Funding, U.S. Coast Guard Permit, Special-Use-Permit, Right-of-Way Permit, U.S. Army COE Section 10 and 404 Permits, Dare County, NC.

Summary: EPA continues to have environmental concerns about building additional bridges through a national wildlife refuge and national seashore and the related water quality and migratory bird impacts.

EIS No. 20080452, ERP No. F-GSA-D80032-DC, Department of Homeland Security Headquarters at the St. Elizabeths West Campus, To Consolidate Federal Office Space on a Secure Site, Washington, DC.

Summary: EPA continues to have environmental concerns about the East Campus resource impacts.

EIS No. 20080454, ERP No. F-OSM-K65321-00, Black Mesa Project, Revisions to the Life-of-Mine Operation and Reclamation for the Kayenta and Black Mesa Surface-Coal Mining Operations, Right-of-Way Grant, Mohave, Navajo, Coconino and Yavapai Counties, AZ and Clark County, NV.

Summary: EPA does not object to this project.

EIS No. 20080457, ERP No. F-APH-A82128-00, PROGRAMMATIC—Use of Genetically Engineered Fruit Fly and Pink Bollworm in APHIS Plant Pest Control Programs, Implementation.

Summary: EPA does not object to the proposed action.

EIS No. 20080458, ERP No. F-COE-K39113-CA, Natomas Levee Improvement Project, Issuing of 408 Permission and 404 Permit, Sacramento Area Flood Control Agency, Sutter and Sacramento, CA.

Summary: EPA continues to have environmental concerns with the residual flood risk to development in a floodplain protected by levees, and indirect and cumulative environmental effects. We recommended the ROD describe how future development will not compromise the flood-risk-reduction achievements of this project or constrain flood protection management; and how future development adheres to, and does not undermine, the Natomas Basin Habitat Conservation Plan. EPA recommended implementation of the Natomas Basin flood safety plan prior to additional development, when feasible.

EIS No. 20080463, ERP No. F-FAA-G52000-NM, Spaceport America Commercial Launch Site, Proposal to Develop and Operate, Issuance of License, Sierra County, NM.

Summary: No formal comment letter was sent to the preparing agency.

EIS No. 20080466, ERP No. F-USN-A11081-00, Introduction of the P-8A MMA into the U.S. Navy Fleet, To Provide Facilities and Functions that Support the Homebasing of 12 P-8A Multi-Mission Maritime Aircraft (MMA) Fleet Squardrons (72 Aircraft) and one Fleet Replacement Squadron (FRS), which include the Following Installations: Naval Air Station Jacksonville, FL; Naval Air Station Whidbey Island, WA; Naval Air Station North Island, CA; Marine Corps Base HI and Kaneohe Bay, HI.

Summary: EPA does not object to the proposed action.

EIS No. 20080492, ERP No. F-NPS-F65070-MI, Sleeping Bear Dunes National Lakeshore, General Management Plan and Wilderness Study, Implementation, Benzie and Leelanau Counties, MI.

Summary: EPA does not object to the proposed action. We recommend that the Record of Decision discuss possible negative effects of allowing electric motors on some inland lakes.

EIS No. 20080498, ERP No. F-NOA-K90031-CA, Channel Islands National Marine Sanctuary Management Plan, Implementation, Santa Barbara and Ventura Counties, CA.

Summary: No formal comment letter was sent to the preparing agency.

EIS No. 20080459, ERP No. FS-COE-K35044-CA, Berth 136-147 [TraPac] Container Terminal Project, Updated Information on the Draft General Conformity Determination, Upgrade Existing Wharf Facilities, Install a Buffer Area between the Terminal and Community, U.S. Army COE Section 10 and 404 Permit, West Basin Portion of the Port of Los Angeles, CA.

Summary: No formal comment letter was sent to the preparing agency.

Dated: December 22, 2008.
Clifford Rader,
Environmental Protection Specialist, Office of Federal Activities.

[FR Doc. E8-30909 Filed 12-24-08; 8:45 am]

BILLING CODE 6560-50-P